DEPARTMENT OF ENERGY

Federal Energy Regulatory Commission

[Docket No. RP03-255-001]

MIGC, Inc.; Notice of Compliance Filing

April 1, 2003.

Take notice that on March 27, 2003, MIGC, Inc. (MIGC) tendered for filing as part of its FERC Gas Tariff, First Revised Volume No.1, the following alternative tariff sheet, to become effective March 18, 2003:

Second Revised Title Sheet

On February 14, 2003, MIGC filed revised tariff sheets, revising its tariff to replace the physical address references with a reference to MIGC's Internet Web Site where its physical address, phone numbers and e-mail addresses are listed. This change was instigated by a change in MIGC's corporate office address. FERC issued a Letter Order on March 17, 2003 accepting the revised tariff sheets effective March 18, 2003 subject to certain conditions set forth in the Letter Order. The Letter Order directed MIGC to file within ten days of the date of the order a revised title page replacing MIGC's old physical address references with its new address references in accordance with this Commission regulation.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 9, 2003.

Magalie R. Salas,
Secretary.

[FR Doc. 03-8465 Filed 4-7-03; 8:45 am]

BILLING CODE 6717-01-P